ENVIRONMENTAL PROTECTION AGENCY

40 CFR Part 52

[ME056-1-7005b; FRL-7269-5]

Approval and Promulgation of Air Quality Implementation Plans; Maine; Reasonably Available Control Technology for Nitrogen Oxides

AGENCY: Environmental Protection Agency (EPA).

ACTION: Proposed rule.

SUMMARY: The EPA is proposing to approve a State Implementation Plan (SIP) revision that was submitted by the State of Maine. The SIP revision establishes and requires Reasonably Available Control Technology (RACT) at stationary sources of nitrogen oxides (NOX). The intended effect of this action is to approve regulatory provisions and source specific air emissions licenses which require major stationary sources of NOX to reduce their emissions in accordance with requirements of the Clean Air Act.

DATES: Comments must be received on or before October 9, 2002.

ADDRESSES: You should address your comments to Mr. David Conroy, Unit Manager, Air Quality Planning Unit, Office of Ecosystem Protection (mail code CAQ), U.S. Environmental Protection Agency, Region I, One Congress Street, Suite 1100, Boston, MA 02114-2023. Copies of the State submittal and EPA's technical support document are available for public inspection during normal business hours, by appointment at the Office of Ecosystem Protection, U.S. Environmental Protection Agency, Region I, One Congress Street, 11th floor, Boston, MA, and the Bureau of Air Quality Control, Department of Environmental Protection, First Floor of the Tyson Building, Augusta Mental Health Institute Complex, Augusta, ME 04333-0017.

FOR FURTHER INFORMATION CONTACT: Dan Brown, Environmental Engineer, Air Quality Planning Unit (CAQ), U.S. EPA, Region I, One Congress Street, Suite 1100, Boston, MA 02114-2023; (617) 918-1532; brown.dan@epa.gov.

SUPPLEMENTARY INFORMATION: In the Final Rules section of this Federal Register, EPA is approving the State's SIP submittal as a direct final rule without prior proposal because the Agency views this as a noncontroversial submittal and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules section of this Federal Register.

Authority: 42 U.S.C. 7401 et seq.

Dated: August 16, 2002.
Robert W. Varney,
Regional Administrator, EPA New England.

[FR Doc. 02-22360 Filed 9-6-02; 8:45 am]

BILLING CODE 6560-50-P